DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from April 6, to April 10, 2009.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: May 19, 2009.
J. Paul Loether,
Chief, National Register of Historic Places/National Historic Landmarks Program.

KEY: State, County, Property Name, Address/Boundary, City, Vicinity, Reference Number, Action, Date, Multiple Name

Arizona, Coconino County, Ice House, The, 201 E. Birch Ave., Flagstaff, 09000174, Listed, 4/08/09

California, Los Angeles County, Frank, Richard and Mary Alice, House, 919 La Loma Rd., Pasadena, 09000175, Listed, 4/10/09 (Cultural Resources of the Recent Past, City of Pasadena)

California, Los Angeles County, Marguerita Lane Historic District, Marguerita La. off South Morengo Ave., Pasadena, 09000177, Listed, 4/10/09

California, Los Angeles County, Mello, Clarence and Mary, House, 541 Fremont Dr., Pasadena, 09000178, Listed, 4/10/09 (Cultural Resources of the Recent Past, City of Pasadena)

California, Los Angeles County, Norton, John, House, 820 Burleigh Dr., Pasadena, 09000179, Listed, 4/10/09 (Cultural Resources of the Recent Past, City of Pasadena)

California, Los Angeles County, Pacific Electric Building, 610 S. Main St., Los Angeles, 09000180, Listed, 4/09/09

California, Los Angeles County, Pike, Robert and Barbara, House, 512 Glen Ct., Pasadena, 09000181, Listed, 4/10/09 (Cultural Resources of the Recent Past, City of Pasadena)

California, Placer County, Carnegie Library, 557 Lincoln St., Roseville, 09000199, Listed, 4/10/09

Florida, Sarasota County, Downtown Sarasota Historic District, Bound by 1st St., Orange Ave., State St., Gulf Stream Ave. and N. Pineapple Ave., Sarasota, 09000183, Listed, 4/09/09

Georgia, Newton County, Brick Store, US 278 at Little River Rd./Social Circle Rd., Covington vicinity, 09000186, Listed, 4/09/09

Georgia, Walker County, Chickamauga Coal and Iron Company Coke Ovens, GA 341, Chickamauga, 09000188, Listed, 4/09/09

Kansas, Dickinson County, Eliason Barn, 147 KS 4, Gypsum, 09000189, Listed, 4/08/09 (Agriculture-Related Resources of Kansas)

Kansas, Ellis County, Mermis, J.A., House, 1401 Ash St., Hays, 09000190, Listed, 4/08/09

Kansas, Montgomery County, Brown Barn, 5879 Co. Rd. 4300, Independence, 09000191, Listed, 4/08/09 (Agriculture-Related Resources of Kansas)

Kansas, Ness County, Thornburg Barn, Co. Rd. A, 1.5 mi. W. of D Rd., Utica, 09000192, Listed, 4/08/09 (Agriculture-Related Resources of Kansas)

Kansas, Pottawatomie County, Teske Farmstead, 20795 Major Jenkins Rd., Onaga, 09000193, Listed, 4/08/09 (Agriculture-Related Resources of Kansas)

Kansas, Republic County, Shimanek Barn, 1806 220 Rd., Munden, 09000194, Listed, 4/08/09 (Agriculture-Related Resources of Kansas)

Kansas, Sheridan County, Shafer Barn, Co. Rd. 50S, 1.5 mi. W. of Co. Rd. 80E, Hoxie, 09000195, Listed, 4/08/09 (Agriculture-Related Resources of Kansas)

Wisconsin, Columbia County, Goeres Park, 101 Fair St., Lodi, 09000197, Listed, 4/09/09

Wisconsin, Columbia County, Lodi School Hillside Improvement Site, Corner St., bounded by Pleasant St. and Columbus St., Lodi, 09000198, Listed, 4/09/09

[FR Doc. E9-12072 Filed 5-22-09; 8:45 am]

BILLING CODE P